DEPARTMENT OF COMMERCE

National Oceanic and Atmospheric Administration

Environmental Statements; Notice of Intent: Alaska Coastal Management Program; Scoping Meetings; Correction

AGENCY: Office of Ocean and Coastal Resource Management (OCRM), National Oceanic and Atmospheric Administration (NOAA), Department of Commerce (DOC).

ACTION: Notice; correction.

SUMMARY: OCRM published a document in the Federal Register of June 24, 2005, announcing dates of the public scoping meetings pursuant to the National Environmental Policy Act (NEPA). The document contained incorrect citations of Alaska State regulations, and the years when the regulatory and legislative changes were made, and misstated the type of information NOAA is seeking from the public in the first sentence of DATES, and did not provide information regarding where the public could find a copy of the Alaska program change.

FOR FURTHER INFORMATION CONTACT: Helen Bass, 301-713-3155 extension 175.

Correction

In the Federal Register of June 24, 2005, in FR Doc. Volume 70, Number 121, on page 36565, correct the SUMMARY, the first sentence of DATES, and the first sentence of the Supplementary Information, captions to read:

SUMMARY: NOAA announces its intention to prepare an EIS in accordance with the National Environmental Policy Act of 1969 for the proposed approval of amendments submitted by the State of Alaska to its Coastal Management Program. The State has adopted statutory changes to Coastal Management Administration (AS 46.39) and The Alaska Coastal Management Program (AS 46.40), and regulatory changes to Alaska Coastal Management Implementation (11 AAC 110), Statewide Standards of the Alaska Coastal Management Program (11 AAC 112), and District Coastal Management Plan Requirements (11 AAC 114). The Program Change submission, statutory changes, and regulatory changes are available for public review on the Alaska Coastal Management Program's Web site at http://www.alaskacoast.state.ak.us/OCRM/06-02-05.htm.

DATES: Written comments on suggested alternatives and potential impacts of the proposed approval of the amendments submitted by the State of Alaska to its Coastal Management Program will be accepted on or before August 5, 2005.

SUPPLEMENTARY INFORMATION: In 2003 and 2005, the State of Alaska adopted legislation that made substantial revisions to its federally-approved Coastal Management Program. In addition, regulatory changes implementing those legislative revisions were made in 2004 and 2005.

Dated: June 30, 2005.
Eldon Hout,
Director, Office of Ocean and Coastal Resource Management, National Ocean Service, National Ocean and Atmospheric Administration.
(Federal Domestic Assistance Catalog 11.419 Coastal Zone Management Program Administration)

[FR Doc. 05-13323 Filed 7-6-05; 8:45 am]

BILLING CODE 3510-08-P